DEPARTMENT OF ENERGY

Federal Energy Regulatory Commission

[Docket No. EL17-78-000]

City of Dover; Notice of Institution of Section 206 Proceeding

On July 7, 2017, a letter order was issued in Docket No. EL17-78-000 by the Director, Division of Electric Power—East, Office of Energy Market Regulation, pursuant to section 206 of the Federal Power Act (FPA), 16 U.S.C. 824e (2012), instituting an investigation into whether the proposed rate decrease of City of Dover may be unjust, unreasonable, unduly discriminatory or preferential. City of Dover, 160 FERC 62,014 (2017).¹

¹ See also City of Dover, Docket Nos. NJ17-10-000, NJ17-10-001, and EL17-78-000 (July 10, 2017) (delegated letter order correcting the caption in City of Dover, 160 FERC ¶ 62,014 (2017)).

Any interested person desiring to be heard in Docket No. EL17-78-000 must file a notice of intervention or motion to intervene, as appropriate, with the Federal Energy Regulatory Commission, 888 First Street NE., Washington, DC 20426, in accordance with Rule 214 of the Commission's Rules of Practice and Procedure, 18 CFR 385.214, within 21 days of the date of issuance of the order.

Dated: July 11, 2017.
Nathaniel J. Davis, Sr.,
Deputy Secretary.

[FR Doc. 2017-14895 Filed 7-14-17; 8:45 am]

BILLING CODE 6717-01-P